DEPARTMENT OF COMMERCE

National Oceanic and Atmospheric Administration

RIN 0648-XC63

Pacific Fishery Management Council; Public Meeting

AGENCY: National Marine Fisheries Service (NMFS), National Oceanic and Atmospheric Administration (NOAA), Commerce.

ACTION: Notice of a public meeting.

SUMMARY: The Pacific Fishery Management Council's (Council) Groundfish Management Team (GMT) will hold a working meeting, which is open to the public.

DATES: The GMT meeting will be held Tuesday, October 9, 2007, from 1 p.m. until business for the day is completed. The GMT meeting will reconvene Wednesday, October 10 through Friday, October 12, from 8:30 a.m. until business for the day is completed.

ADDRESSES: The GMT meeting will be held at the Hotel Deca Seattle, President Room, 4507 Brooklyn Avenue NE, Seattle, WA 98105; telephone: (206) 634-2000.

Council address: Pacific Fishery Management Council, 7700 NE Ambassador Place, Suite 101, Portland, OR 97220-1384.

FOR FURTHER INFORMATION CONTACT: Mr. John DeVore, Groundfish Management Coordinator; telephone: (503) 820-2280.

SUPPLEMENTARY INFORMATION: The primary purpose of the GMT working meeting is to develop a range of 2009-10 optimum yields for groundfish species from new stock assessments and rebuilding analyses, consider recommendations for 2009-10 management measures, consider recommendations for inseason adjustments to 2007 and 2008 groundfish fisheries, consider recommendations for 2008 exempted fishing permits, consider recommendations and implications for implementing mandates in the re-authorized Magnuson-Stevens Fishery Conservation and Management Act, consider recommendations for intersector allocations of groundfish species, and consider recommendations for developing a trawl rationalization program. The GMT may also address other assignments relating to groundfish management. No management actions will be decided by the GMT. The GMT's role will be development of recommendations for consideration by the Council at its November meeting in San Diego, CA.

Although non-emergency issues not contained in the meeting agenda may come before the GMT for discussion, those issues may not be the subject of formal GMT action during this meeting. GMT action will be restricted to those issues specifically listed in this notice and any issues arising after publication of this notice that require emergency action under Section 305(c) of the Magnuson-Stevens Fishery Conservation and Management Act, provided the public has been notified of the GMT's intent to take final action to address the emergency.

Special Accommodations

This meeting is physically accessible to people with disabilities. Requests for sign language interpretation or other auxiliary aids should be directed to Ms. Carolyn Porter at (503) 820-2280 at least 5 days prior to the meeting date.

Dated: September 12, 2007.
Emily Menashes,
Acting Director, Office of Sustainable Fisheries, National Marine Fisheries Service.

[FR Doc. E7-18226 Filed 9-14-07; 8:45 am]

BILLING CODE 3510-22-S